DEPARTMENT OF COMMERCE

National Oceanic and Atmospheric Administration

[RTID O648-XA591]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Bluefish Advisory Panel will hold a public meeting.

DATES: The meeting will be held on Thursday, November 12, 2020, from 10 a.m. to 11:30 a.m. For agenda details, see SUPPLEMENTARY INFORMATION.

ADDRESSES: The meeting will be held via webinar, which can be accessed at: http://mafmc.adobeconnect.com/bf_ap_rm_nov_2020/. Meeting audio can also be accessed via telephone by dialing 1-800-832-0736 and entering room number 5068609.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Bluefish Advisory Panel will meet to comment on the current recreational management measures and offer on-the-water observations for discussion at the upcoming Monitoring Committee and Council meetings.

Special Accommodations

The meeting is physically accessible to people with disabilities. Requests for sign language interpretation or other auxiliary aids should be directed to M. Jan Saunders at the Mid-Atlantic Council Office, (302) 526-5251, at least 5 days prior to the meeting date.

Authority: 16 U.S.C. 1801 et seq.

Dated: October 22, 2020.
Tracey L. Thompson,
Acting Deputy Director, Office of Sustainable Fisheries, National Marine Fisheries Service.

[FR Doc. 2020-23734 Filed 10-26-20; 8:45 am]

BILLING CODE 3510-22-P